DEPARTMENT OF COMMERCE

International Trade Administration

[A-552-802]

Certain Frozen Warmwater Shrimp From the Socialist Republic of Vietnam: Final Results of Antidumping Duty Administrative Review, 2012-2013

AGENCY: Enforcement and Compliance, International Trade Administration, Department of Commerce.

SUMMARY: On March 24, 2014, the Department of Commerce (“Department”) published in the Federal Register the Preliminary Results of the eighth administrative review of the antidumping duty Order ¹ on certain warmwater shrimp from the Socialist Republic of Vietnam (“Vietnam”).² Based upon our analysis of the comments and information received, we determine that Minh Phu Group,³ and Stapimex,⁴ the two mandatory respondents, sold subject merchandise at less than normal value during the period of review (“POR”), February 1, 2012, through January 31, 2013.

¹ See Notice of Amended Final Determination of Sales at Less Than Fair Value and Antidumping Duty Order: Certain Frozen Warmwater Shrimp From the Socialist Republic of Vietnam, 70 FR 5152 (February 1, 2005) (“Order”).

² See Certain Warmwater Shrimp from the Socialist Republic of Vietnam: Preliminary Results of Antidumping Duty Administrative Review, 2012-2013, 79 FR 15944 (March 24, 2014) (“Preliminary Results”).

³ Minh Phu Seafood Export Import Corporation (and affiliated Minh Qui Seafood Co., Ltd. and Minh Phat Seafood Co., Ltd.); Minh Phu Seafood Corporation, Minh Phu Seafood Corp., Minh Qui Seafood Co., Ltd., Minh Qui Seafood, Minh Phat Seafood Co., Ltd., Minh Phat Seafood, and Minh Phu Hau Giang Seafood Co., Ltd. (collectively, the “Minh Phu Group”).

⁴ Soc Trang Seafood Joint Stock Company (“Stapimex”).

DATES: Effective Date: September 24, 2014.

FOR FURTHER INFORMATION CONTACT: Bob Palmer or Irene Gorelik, AD/CVD Operations, Office V, Enforcement and Compliance, International Trade Administration, Department of Commerce, 14th Street and Constitution Avenue NW., Washington, DC 20230; telephone: (202) 482-9068 or (202) 482-6905, respectively.

SUPPLEMENTARY INFORMATION: On March 24, 2013, the Department published the Preliminary Results. On June 3, 2014, the Department extended the time limit for these final results by 60 days. On April 28, 2014, Petitioner ⁵ and the Minh Phu Group submitted additional surrogate value (“SV”) information.

⁵ The Ad Hoc Shrimp Trade Action Committee (“Petitioner”).

We gave interested parties an opportunity to comment on the Preliminary Results. On April 23, 2014, Gallant Ocean (Quang Ngai) Co., Ltd., Gallant Dachan Seafood Co., Ltd., and Gallant Ocean (Vietnam) Co., Ltd. submitted a case brief. On May 28, 2014, Petitioner, Domestic Processors,⁶ Quoc Viet, the Minh Phu Group and Stapimex submitted case briefs. On June 2, 2014, Petitioner, Domestic Processors, Quoc Viet, the Minh Phu Group and Stapimex submitted rebuttal briefs.

⁶ American Shrimp Processors Association (“Domestic Processors”).

Scope of the Order

The merchandise subject to the order is certain frozen warmwater shrimp. The product is currently classified under the following Harmonized Tariff Schedule of the United States item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. The written description of the scope of the order is dispositive. A full description of the scope of the Order is available in the accompanying Issues and Decision Memorandum.⁷

⁷ See Memorandum to Ronald K. Lorentzen, Acting Assistant Secretary for Enforcement and Compliance, From Gary Taverman, Associate Deputy Assistant Secretary for Antidumping and Countervailing Duty Operations, Certain Frozen Warmwater Shrimp from the Socialist Republic of Vietnam: Issues and Decision Memorandum for the Final Results, (“Issues and Decision Memorandum”) dated concurrently and hereby adopted by this notice.

Analysis of Comments Received

All issues raised in the case and rebuttal briefs by parties to this review are addressed in the accompanying Issues and Decision Memorandum.⁸ A list of the issues which parties raised, and to which we respond in the Issues and Decision Memorandum is attached to this notice as an Appendix. The Issues and Decision Memorandum is a public document and is on file electronically via Enforcement and Compliance's Antidumping and Countervailing Duty Centralized Electronic Service System (IA ACCESS). IA ACCESS is available to registered users at http://iaaccess.trade.gov and in the Central Records Unit, room 7046 of the main Department of Commerce building. In addition, a complete version of the Issues and Decision Memorandum can be accessed directly on the internet at http://enforcement.trade.gov/frn/index.html. The signed Issues and Decision Memorandum and electronic versions of the Issues and Decision Memorandum are identical in content.

⁸ Id.

Final Determination of No Shipments

In the Preliminary Results, the Department preliminarily determined the following companies did not have any reviewable transactions during the POR: Anvifish Joint Stock Company, Bac Lieu Fisheries Company Limited, Bien Dong Seafood Co., Ltd., Camranh Seafoods Processing Enterprise Pte., Ngoc Sinh Private Enterprise, Ngoc Tri Seafood Joint Stock Company, Nhat Duc Co., Ltd., Seavina Joint Stock Company, and Vinh Hoan Corporation. We have not received any information to contradict this determination. Therefore, the Department made the final determination that the above-named companies did not have any reviewable entries of subject merchandise during the POR, and will issue appropriate instructions that are consistent with our “automatic assessment” clarification, for these final results.

Changes Since the Preliminary Results

The Department has not made changes to any surrogate values or company-specific margin calculations since the Preliminary Results. For detailed information, see the Issues and Decision Memorandum and the company-specific final results analysis memoranda.

Separate Rates

In the Preliminary Results, we determined that 30 companies ⁹ (“Separate Rate Respondents”) in addition to Minh Phu Group and Stapimex met the criteria for separate rate status. We have not received any information since the issuance of the Preliminary Results that provides a basis for reconsidering this preliminary determination. Therefore, the Department continues to find that these 32 companies meet the criteria for a separate rate for the final results.

⁹ See Issues and Decision Memorandum at Appendix I.

Rate for Non-Selected Companies

For the final results, the calculated rates for both mandatory respondents have not changed from the Preliminary Results. Therefore, there is no change to the separate rate assigned to the Separate Rate Respondents for the final results of this review, and we continue to determine that a “reasonable method for determining the weighted-average dumping margins for the non-selected respondents in this review is to average the weighted-average dumping margins calculated for the mandatory respondents,” as noted in the Preliminary Results.¹⁰

¹⁰ See Preliminary Results, and accompanying Preliminary Decision Memorandum at 10-11.

Vietnam-Wide Entity

In the Preliminary Results, we determined that 45 companies failed to demonstrate their eligibility for a separate rate. In non-market economy (“NME”) proceedings, “`rates' may consist of a single dumping margin applicable to all exporters and producers.” ¹¹ Therefore, we assigned the Vietnam-wide entity a rate of 25.76 percent, the only rate ever determined for the Vietnam-wide entity in this proceeding. We have not received any information since the Preliminary Results that provides a basis for reconsidering this determination. We, therefore, continue to apply the Vietnam-wide entity rate of 25.76 percent to these 45 companies.¹²

¹¹ See 19 CFR 351.107(d).

¹² See Issues and Decision Memorandum at Appendix II for a list of the companies included in the Vietnam-Wide Entity.

Final Results of Review

The Department determines that the following final dumping margins exist:

¹³ The Department found the companies comprising the Minh Phu Group are a single entity and, because there have been no changes to the facts which supported this determination since the sixth administrative review, we continue to find these companies to be part of a single entity. Therefore, we will assign this rate to the companies in the single entity. See Certain Frozen Warmwater Shrimp From the Socialist Republic of Vietnam: Preliminary Results of Administrative Review, 77 FR 13547, 13549 (March 7, 2012), unchanged in Certain Frozen Warmwater Shrimp From the Socialist Republic of Vietnam: Final Results and Final Partial Rescission of Antidumping Duty Administrative Review, 77 FR 55800 (September 11, 2012).

¹⁴ The Department found the companies comprising Nha Trang Seafoods are a single entity and, because there have been no changes to the fact which supported this determination since the fifth administrative review, we continue to find these companies to be part of a single entity. Therefore, we will assign this rate to the companies in the single entity. See Certain Frozen Warmwater Shrimp From the Socialist Republic of Vietnam: Preliminary Results, Partial Rescission, and Request for Revocation, In Part, of the Fifth Administrative Review, 76 FR 12054, 12056 (March 4, 2012), unchanged in Certain Frozen Warmwater Shrimp From the Socialist Republic of Vietnam: Final Results and Final Partial Rescission of Antidumping Duty Administrative Review, 76 FR 56158 (September 12, 2011).

¹⁵ See Issues and Decision Memorandum at Appendix II for a list of the companies included in the Vietnam-Wide Entity.

Exporter | Weighted-average margin %
Minh Phu Group: ¹³
Minh Phu Seafood Corp., aka Minh Phu Seafood Corporation, aka Minh Phu Seafood Pte, aka Minh Phu Hau Giang Seafood Co., Ltd., aka Minh Phat Seafood Co., Ltd., aka Minh Qui Seafood Co., Ltd | 4.98
Soc Trang Seafood Joint Stock Company, aka Stapimex, aka Soc Trang Aquatic Products and General Import Export Company, aka Stapimex Soc Trans Aquatic Products and General Import Export Company, aka Stapmex | 9.75
BIM Seafood Joint Stock Company | 6.37
Camau Frozen Seafood Processing Import Export Corporation, aka Camimex, aka Camau Seafood Factory No. 4, aka Camau Seafood Factory No. 5, aka Camau Frozen Seafood Processing Import Export Corp. (CAMIMEX-FAC 25), aka Frozen Factory No. 4 | 6.37
C.P. Vietnam Corporation, aka C.P. Vietnam Livestock Corporation, aka C.P. Vietnam Livestock Company Limited, aka C.P. Vietnam | 6.37
Cadovimex Seafood Import-Export and Processing Joint Stock Company, aka Cai Doi Vam Seafood Import-Export Company, aka Caidoivam Seafood Company, aka Cadovimex-Vietnam, aka Cadovimex | 6.37
Cafatex Fishery Joint Stock Corporation, aka Cafatex Corporation, aka Cafatex Corp., aka Cafatex, aka Taydo Seafood Enterprise, aka Xi Nghiep Che Bien Thuy Suc San Xuat Kau Cantho | 6.37
Camau Seafood Processing and Service Joint Stock Company | 6.37
Can Tho Import Export Fishery Limited Company, aka CAFISH | 6.37
Coastal Fisheries Development Corporation, aka COFIDEC, aka Coastal Fisheries Development Corp., aka Coastal Fisheries Development Co., aka Coastal Fisheries Development | 6.37
Cuu Long Seaproducts Company, aka Cuu Long Seaproducts Limited, aka Cuulong Seapro aka Cuu Long Seapro | 6.37
Danang Seaproducts Import Export Corporation, aka Danang Sea Products Import Export Corporation, aka Tho Quang Seafood Processing & Export Company, aka Tho Quang Seafood Processing and Export Company, aka Tho Quang, aka Tho Quang Co., aka Seaprodex Danang | 6.37
Gallant Ocean (Vietnam) Co., Ltd | 6.37
Hai Viet Corporation | 6.37
Investment Commerce Fisheries Corporation, aka Investment Commerce Fisheries Corp., aka Investment Commerce Fisheries, aka Incomfish, aka Incomfish Corp., aka Incomfish Corporation | 6.37
Kim Anh Company Limited, aka Kim Anh Co, Ltd | 6.37
Minh Hai Export Frozen Seafood Processing Joint-Stock Company, aka Minh Hai Jostoco, aka | 6.37
Minh Hai Joint-Stock Seafoods Processing Company, aka Seaprodex Minh Hai, aka Sea Minh Hai, aka Seaprodex Min Hai, aka Seaprodex Minh Hai-Factory No. 78, aka Seaprodex Minh Hai (Minh Hai Joint Stock Seafoods Processing Co.), aka Seaprodex Minh Hai (Workshop 1), aka Seaprodex Minh Hai Factory No. 69 | 6.37
Minh Hai Sea Products Import Export Company, aka Ca Mau Seafood Joint Stock Company, aka Seaprimexco Vietnam aka Seaprimexco aka Minh Hai Seaproducts Co Ltd | 6.37
Nha Trang Fisheries Joint Stock Company, aka Nha Trang Fisco aka Nhatrang Fisheries Joint Stock Company, aka Nhatrang Fisco, aka Nha Trang Fisheries, Joint Stock | 6.37
Nha Trang Seafoods: ¹⁴
Nha Trang Seaproducts Company, aka Nha Trang Seafoods, aka NT Seafoods Corporation, aka NT Seafoods, aka Nha Trang Seafoods—F.89 Joint Stock Company, aka Nha Trang Seafoods—F.89, aka NTSF Seafoods Joint Stock Company, aka NTSF Seafoods | 6.37
Phu Cuong Jostoco Seafood Corporation, aka Phu Cuong Seafood Processing and Import-Export Co., Ltd., aka Phu Cuong Seafood Processing and Import Export Company Limited, aka Phu Cuong Jostoco Seafood Corp | 6.37
Phuong Nam Foodstuff Corp., aka Phuong Nam Co., Ltd | 6.37
Quoc Viet Seaproducts Processing Trading and Import-Export Co., Ltd | 6.37
Sao Ta Foods Joint Stock Company, aka Fimex VN aka Sao Ta Seafood Factory aka Saota Seafood Factory | 6.37
Thong Thuan Company Limited, aka Cong Ty Tnhh Thong Thuan | 6.37
Thuan Phuoc Seafoods and Trading Corporation, aka Thuan Phuoc Corp., aka Frozen Seafoods Factory No. 32, aka Seafoods and Foodstuff Factory, aka Seafoods and Foodstuff Factory Vietnam, aka My Son Seafoods Factory | 6.37
UTXI Aquatic Products Processing Corporation, aka UT XI Aquatic Products Processing Corporation, aka UTXI Aquatic Products Processing Company, aka UT XI Aquatic Products Processing Company, aka UTXI Co. Ltd., aka UTXI, aka UTXICO, aka Hoang Phuong Seafood Factory, aka Hoang Phong Seafood Factory | 6.37
Viet Foods Co., Ltd., aka Nam Hai Foodstuff and Export Company Ltd | 6.37
Vietnam Clean Seafood Corporation, aka Vina Cleanfood | 6.37
Viet Hai Seafood Co., Ltd., aka Vietnam Fish One Co., Ltd., aka Fish One | 6.37
Viet I-Mei Frozen Foods Co., Ltd | 6.37
Vietnam-wide Entity ¹⁵ | 25.76

Disclosure and Public Comment

We will disclose the calculations performed within five days of the date of publication of this notice to parties in this proceeding in accordance with 19 CFR 351.224(b).

Assessment Rates

Pursuant to section 751(a)(2)(A) of the Tariff Act of 1930, as amended (“the Act”) and 19 CFR 351.212(b), the Department will determine, and U.S. Customs and Border Protection (“CBP”) shall assess, antidumping duties on all appropriate entries of subject merchandise in accordance with the final results of this review. The Department intends to issue assessment instructions to CBP 15 days after the date of publication of these final results of review.

For any individually examined respondent whose weighted-average dumping margin is above de minimis (i.e., 0.50 percent), the Department will calculate importer-specific assessment rates on the basis of the ratio of the total amount of dumping calculated for the importer's examined sales and the total entered value of sales. Where we do not have entered values for all U.S. sales to a particular importer/customer, we calculate a per-unit assessment rate by aggregating the antidumping duties due for all U.S. sales to that importer (or customer) and dividing this amount by the total quantity sold to that importer (or customer).¹⁶ To determine whether the duty assessment rates are de minimis, in accordance with the requirement set forth in 19 CFR 351.106(c)(2), we calculated importer- (or customer-) specific ad valorem ratios based on the estimated entered value. Where either a respondent's weighted average dumping margin is zero or de minimis, or an importer- (or customer-) specific ad valorem rate is zero or de minimis, we will instruct CBP to liquidate appropriate entries without regard to antidumping duties.¹⁷

¹⁶ See 19 CFR 351.212(b)(1).

¹⁷ See 19 CFR 352.106(c)(2); Antidumping Proceeding: Calculation of the Weighted-Average Dumping Margin and Assessment Rate in Certain Antidumping Proceedings; Final Modification, 77 FR 8101, 8103 (February 14, 2012) (“Final Modification for Reviews”).

Additionally, pursuant to a refinement to its assessment practice in NME cases, if the Department continues to determine that an exporter under review had no shipments of the subject merchandise, any suspended entries that entered under that exporter's case number (i.e., at that exporter's rate) will be liquidated at the NME-wide rate.¹⁸

¹⁸ For a full discussion of this practice, see Non-Market Economy Antidumping Proceedings: Assessment of Antidumping Duties, 76 FR 65694 (October 24, 2011).

Cash Deposit Requirements

The following cash deposit requirements will be effective upon publication of the final results of this administrative review for shipments of the subject merchandise from Vietnam entered, or withdrawn from warehouse, for consumption on or after the publication date, as provided by sections 751(a)(2)(C) of the Act: (1) For the companies listed above, which have a separate rate, the cash deposit rate will be that established in the final results of this review (except, if the rate is zero or de minimis, then zero cash deposit will be required); (2) for previously investigated or reviewed Vietnam and non-Vietnam exporters not listed above that received a separate rate in a prior segment of this proceeding, the cash deposit rate will continue to be the existing exporter-specific rate; (3) for all Vietnam exporters of subject merchandise that have not been found to be entitled to a separate rate, the cash deposit rate will be that for the Vietnam-wide entity; and (4) for all non-Vietnam exporters of subject merchandise which have not received their own rate, the cash deposit rate will be the rate applicable to the Vietnam exporter that supplied that non-Vietnam exporter. These deposit requirements, when imposed, shall remain in effect until further notice.

Reimbursement of Duties

This notice also serves as a reminder to importers of their responsibility under 19 CFR 351.402(f)(2) to file a certificate regarding the reimbursement of antidumping duties prior to liquidation of the relevant entries during this POR. Failure to comply with this requirement could result in the Department's presumption that reimbursement of antidumping duties occurred and the subsequent assessment of double antidumping duties.

Administrative Protective Orders

This notice also serves as a reminder to parties subject to administrative protective order (“APO”) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

This determination is issued and published in accordance with sections 751(a)(1) and 777(i)(1) of the Act and 19 CFR 351.221(b)(4).

Dated: September 19, 2014.
Ronald K. Lorentzen,
Acting Assistant Secretary for Enforcement and Compliance.

Appendix

General Issues

Comment 1: Surrogate Country

Comment 2: Differential Pricing

A. Consideration of an Alternative Comparison Method in Administrative Reviews

B. Withdrawal of the Regulatory Provisions Governing Targeted Dumping in Less-Than-Fair-Value Investigations

C. Differential Pricing Analysis

D. Whether to apply the A-to-T methodology to all the Minh Phu Group's Sales

Surrogate Value Issues

Comment 3: Shrimp Surrogate Value

Comment 4: Bangladeshi Inflator Data

Comment 5: Calculation of Brokerage and Handling Expenses

Comment 6: Labor Surrogate Value

Comment 7: Whether the Chlorine, Birlox, Salt and Skewer SVs are Aberrational

a. Chlorine and Birlox

b. Salt

c. Skewers

Comment 8: Certain Adjustments to Financial Ratios

Company—Specific Issues

Minh Phu Group

Comment 9: Separate Rate Status for MPG Affiliate Names

Quoc Viet

Comment 10: Whether The Department Should Continue To Decline To Select Quoc Viet As A Voluntary Respondent

Comment 11: Whether the Rejection of Quoc Viet's Margin Calculation Submission was Contrary to Law

Quang Ngai and Dachan

Comment 12: Separate Rate Status of Gallant Ocean Quang Ngai and Gallant Dachan

SR Respondents

Comment 13: Whether to Include Abbreviated Company Names for Certain Separate Rate Companies

[FR Doc. 2014-22732 Filed 9-23-14; 8:45 am]

BILLING CODE 3510-DS-P